DEPARTMENT OF HEALTH AND HUMAN SERVICES

Centers for Disease Control and Prevention

Enhancing State Capacity to Address Child and Adolescent Health through Violence Prevention

Announcement Type: New.

Funding Opportunity Number: 04145.

Catalog of Federal Domestic Assistance Number: 93.136.

Key Dates:

Letter of Intent Deadline: June 1, 2004.

Application Deadline: June 14, 2004.

I. Funding Opportunity Description

Authority: This program is authorized under section 317(k) (2)(D) of the Public Health Service Act, (42 U.S.C. 247b(k)(2)(D)) as amended.

Purpose: The Centers for Disease Control and Prevention (CDC) announces the availability of a fiscal year (FY) 2004 cooperative agreement. The purpose of this program is to develop capacity and leadership in preventing the perpetration of violence toward or among children and adolescents so it is raised as a public health priority. Cooperative agreements will be awarded through a phased-in process. The Planning Phase will provide assistance for the development of strategic plans that address shared risk reduction and protective factors that foster change in societal norms or environmental conditions that contribute to violence. The Implementation Phase, depending on availability of funds, will allow recipients to implement one or more priority strategy identified in the strategic plan.

For the purpose of this RFA, the types of violence prevention to be addressed include: self-directed (youth suicide) and interpersonal (child maltreatment, teen dating, sexual violence, school violence, community violence and bullying). Research suggests that these forms of violence share risk and protective factors. The ecological model presented in the World Report on Violence and Health (Krug et al., 2002) identifies levels of influence (individual, relationship, community and societal) for strategies to address risk and protective factors. The planning and implementation phases of this project should address the intersection of shared risk and protective factors for these forms of violence. Efforts to prevent perpetration of violence toward or among children and adolescents should include activities that address the individual, relationship, community, and societal factors of potential perpetrators, bystanders, and victims.

For the remainder of this RFA, whenever the term state health agency appears, it also refers to federally recognized Indian tribal governments and U.S. territories.

The specific purposes of this funding are to:

1. Provide an opportunity for health agencies to take a leadership role in addressing violence prevention so that it is raised as a public health priority.

2. Foster effective collaborations that respond to emerging policy and program issues related to preventing the perpetration of violence toward or among children and adolescents.

3. Identify and prioritize data-driven solutions that lead to the prevention of violence perpetrated toward or among children and adolescents.

a. Identify key data elements that provide compelling evidence on the impact of self-directed and interpersonal violence on individuals, families, communities, and society.

b. Identify data that characterize and measure risk and protective factors across the ecological model's spheres of influence (i.e. individual, relationship, community and societal factors).

c. Identify gaps in data, and work with partners to determine how best to address these data needs.

4. Identify specific opportunities and challenges to promote perpetration prevention strategies; propose and implement culturally relevant perpetration prevention initiatives that address shared risk and protective factors for the prevention of violence perpetrated toward or among children and adolescents; and address specific underserved populations, including racial/ethnic, gay/lesbian/transgender, rural, urban, disabled, and other identified underserved populations such as homeless and school dropouts.

This program addresses the “Healthy People 2010” focus area of Injury and Violence Prevention.

Measurable outcomes of the program will be in alignment with the following performance goal for the National Center for Injury Prevention and Control (NCIPC): Increase the capacity of health agencies to address the prevention of injuries and deaths caused by the perpetration of violence toward or among children and adolescents.

For the purposes of this program announcement the following definitions apply:

Prevention: population-based and/or environmental/system level strategies, policies and action that prevent violence from initially occurring. Prevention efforts work to modify and/or entirely eliminate the event, conditions, situations, or exposure to influences (risk factors) that result in the initiation of violence and associated injuries, disabilities, and deaths. Additionally, prevention efforts seek to identify and enhance protective factors that may prevent violence, not only in at-risk populations but also in the community at large. Prevention efforts for violence perpetrated toward and among children and adolescents include activities that are aimed at addressing the individual, relationship, community, and societal factors of potential perpetrators, bystanders, and victims.

Intervention: Services, policies and actions provided after violence perpetrated toward or among children and adolescents have occurred and may have the advantageous effect of preventing a re-occurrence of violence.

Activities

Planning Phase activities for this program are as follows:

1. Develop, expand, and/or maintain a Child and Adolescent Violence Prevention Work Group that will:

a. Represent a cross-section of agencies and organizations committed to using a public health approach; work group members should have expertise and experience working to prevent the perpetration of violence toward and among children and adolescents.

b. Assist in identifying child and adolescent violence prevention programs, policies, research and data sources.

c. Obtain additional support and seek resources to sustain implementation of recommendations detailed in the strategic plan.

d. Assist in developing strategies to disseminate, promote and encourage adoption of the strategic plan as a blueprint for state and local stakeholders.

2. Prepare a state report card on risk and protective factors associated with the prevention of violence perpetrated toward or among children and adolescents:

a. Conduct a statewide inventory of programs working to prevent the perpetration of violence toward or among children and adolescents (at minimum, the inventory should include the number of prevention programs, intended audience, content, and resources devoted to the programs).

b. Conduct an assessment of policies focused on preventing the perpetration of violence toward or among children and adolescents.

c. Conduct an assessment of state-level data sources that identify violent incidents perpetrated toward or among children and adolescents, including non-traditional data sources such as surveys, stakeholder interviews, and focus groups.

d. Conduct an assessment to determine the level of commitment, interest and readiness to fully engage in efforts to prevent the perpetration of violence toward or among children and adolescents.

3. Identify issues and strategies that will facilitate support for sustaining and enhancing perpetration prevention activities by addressing the following:

a. Ongoing collaboration and community involvement.

b. Ongoing commitment.

c. Ongoing communication.

d. Evaluation.

4. Produce and publish a strategic plan that delineates shared risk and protective factors, and identifies strategies that address ecological factors that influence and prevent violence. Specifically, the plan must provide strategies that address individual, relationship, community and societal factors. In addition, the strategic plan should include a logic model and time-phased implementation strategies.

5. Collaborate with CDC and other awardees on an ongoing basis through conference calls and traveling to required awardee meetings.

6. Submit required reports to CDC as scheduled.

In a cooperative agreement, CDC staff is substantially involved in the program activities, above and beyond routine grant monitoring.

CDC Activities for this program are as follows:

1. Provide updated information related to the purposes of this program announcement.

2. Provide technical assistance and consultation in the development, dissemination, and promotion of the strategic plan to prevent the perpetration of violence toward or among children and adolescents.

3. Coordinate information sharing among relevant CDC awardees and partners.

4. Provide consultation to assist in implementing data-driven planning strategies.

5. Compile and disseminate lessons learned to assist with future efforts to prevent the perpetration of violence.

II. Award Information

Type of Award: Cooperative Agreement.

CDC involvement in this program is listed in the Activities Section above.

Fiscal Year Funds: 2004

Approximate Total Funding: $600,000.

Approximate Number of Awards: 6-12 awards.

Approximate Average Award: $75,000.

Floor of Award Range: $50,000.

Ceiling of Award Range: $100,000.

Anticipated Award Date: August 15, 2004.

Budget Period Length: 12 months.

Project Period Length: Two years.

Throughout the project period, CDC's commitment to continuation of awards will be conditioned on the availability of funds, evidence of satisfactory progress by the recipient (as documented in required reports), and the determination that continued funding is in the best interest of the Federal Government.

III. Eligibility Information

III.1. Eligible Applicants

Eligible applicants will be state health departments, including the District of Columbia, the Commonwealth of Puerto Rico, the Virgin Islands, the Commonwealth of Northern Mariana Islands, American Samoa, Guam, Federated States of Micronesia, the Republic of the Marshall Islands, the Republic of Palau, and federally recognized Indian tribal governments.

Eligible applicants are strongly encouraged to collaborate with other state agencies, injury/violence prevention coalitions and other stakeholders to develop and submit one application per state. The program will fund only one application per state. Applications from federally recognized Indian tribal governments will be considered separately.

III.2. Cost Sharing or Matching

Matching funds are not required for this program.

III.3. Other Eligibility Requirements

If you request a funding amount greater than the ceiling of the award range, your application will be considered non-responsive, and will not be entered in the review process.

If your application is incomplete or non-responsive to the requirements listed below, it will not be entered into the review process. You will be notified that your application did not meet the submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Forms are available on the CDC Web site, at the following Internet address: www.cdc.gov/od/pgo/forminfo.htm If you do not have access to the Internet, or if you have difficulty accessing the forms on-line, you may contact the CDC Procurement and Grants Office Technical Information Management Section (PGO-TIM) staff at: 770-488-2700. Application forms can be mailed to you.

IV.2. Content and Form of Submission

Letter of Intent (LOI)

Your LOI must be written in the following format:

• Maximum number of pages: Two.

• Font size: 12-point unreduced.

• Paper size: 8.5 by 11 inches.

• Single spaced.

• Page margin size: One inch.

• Printed only on one side of page.

• Written in plain language, avoid jargon.

Your LOI must contain the following information:

• Number and title of this Program Announcement (PA 04145).

• Partners within the state health agency that will collaborate to develop this application.

Application: You must include a project narrative with your application forms. Your narrative must be submitted in the following format:

• Maximum number of pages: 25. If your narrative exceeds the page limit, only the first 25 pages of the application, which are within the page limit, will be reviewed.

• Font size: 12 point unreduced.

• Double spaced.

• Paper size: 8.5 by 11 inches.

• Page margin size: One inch.

• Printed only on one side of page.

• Held together only by rubber bands or metal clips; not bound in any other way. (e.g. do not use staples).

The narrative should address activities to be conducted over the two-year project period, and must include the following items in the order listed:

• Abstract (one-page summary of the application, does not count towards page limit).

• Work Plan, Goals, and Objectives.

• Relevant Experience.

• Capacity and Staffing.

• Collaboration.

• Dissemination Plan.

• Evaluation.

• Measures of Effectiveness.

• Proposed Budget and Justification (does not count towards page limit).

Additional information may be included in the application appendices. The appendices will not be counted toward the narrative page limit. This additional information includes:

• Curriculum Vitaes.

• Job Descriptions.

• Resumes.

• Organizational Charts.

• Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: June 1, 2004.

CDC requests that you send a LOI if you intend to apply for this program. Although the LOI is not required, not binding, and does not enter into the review of your subsequent application, the LOI will be used to gauge the level of interest in this program, and to allow CDC to plan the application review.

Application Deadline Date: June 14, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application submission address and deadline. It supersedes information provided in the application instructions. If your application does not meet the deadline above, it will not be eligible for review, and will be discarded. You will be notified that you did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows: cooperative agreement funds for this project cannot be used for construction, renovation, the lease of passenger vehicles, the development of major software applications, or supplanting current applicant expenditures.

If you are requesting indirect costs in your budget, you must include a copy of your indirect cost rate agreement. If your indirect cost rate is a provisional rate, the agreement must be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to: Neil Rainford, Project Officer, 2939 Flowers Road South, Atlanta, GA 30341, Telephone: 770-488-1122, Fax: 770-488-1360, E-mail: Nrainford@cdc.gov.

Application Submission Address: Submit the original and two hard copies of your application by mail or express delivery service to: Technical Information Management-PA 04145, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Work Plan, Goals and Objectives (25 Points)

a. Does the applicant include a detailed work plan, including a time-line?

b. Does the work plan include goals and objectives that are specific, measurable, attainable, realistic, and time-phased?

c. Does the applicant provide details about how the inventory of prevention programs will be achieved? Does the applicant include how the assessment of relevant state policies and data sources will be compiled? Does the applicant describe how the inventory and assessment will be integrated into the state report card?

d. Does the applicant provide a description of how the state strategic plan will be produced and published?

2. Relevant Experience (20 Points)

a. Does the applicant demonstrate experience coordinating, collaborating and providing leadership on a state level with regard to preventing violence perpetrated toward or among children and adolescents?

b. Does the applicant demonstrate experience in collecting and analyzing violence related data?

c. Does the applicant demonstrate experience developing violence prevention strategic plans?

d. Does the applicant demonstrate experience in establishing and managing state advisory boards or working groups focused on a violence prevention topic?

e. Does the applicant demonstrate experience in compiling, synthesizing and disseminating statewide strategic plans and evaluation findings through a variety of mediums to key stakeholders, including policy makers, public health officials and/or community-based organizations?

f. Does the applicant demonstrate experience identifying and prioritizing data-driven solutions that lead to the prevention of violence?

g. Does the applicant demonstrate a commitment to inclusiveness and diversity?

3. Capacity and Staffing (15 Points)

a. Does the applicant demonstrate an existing capacity and infrastructure to carry out the required activities in the cooperative agreement?

b. Does the applicant describe the responsibilities of individual staff members, levels of effort and allocation of time?

c. Does the applicant clearly describe project staff and their relevant skills/expertise for their assigned position?

d. Does the applicant include an organizational chart?

4. Collaboration (15 Points)

a. Does the applicant demonstrate a willingness to collaborate with other CDC awardees and partners?

b. Does the applicant demonstrate a successful history of collaborating effectively with organizations at the local, state and national levels?

c. Does the applicant include letters of support and/or memoranda of agreement from national and state child and adolescent violence prevention organizations, research and/or academic experts/institutions, and other relevant agencies and organizations, including public health agencies and organizations that work to prevent the perpetration of violence toward or among children and adolescents?

d. Does the applicant demonstrate that this project will be a collaborative effort that includes other state level entities (e.g., State Department of Education, other divisions of the state health agency, not-for-profit organizations, and academic institutions)?

e. Does the applicant provide a clear description of the composition, role and degree of involvement of the work group? Does the applicant indicate plans to identify work group members that represent a broad range of disciplines, as well as organizations that target diverse populations?

5. Dissemination Plan (15 Points)

a. Does the applicant provide a plan to disseminate the strategic plan?

b. Does the applicant provide details about strategies to obtain support for the strategic plan from key stakeholders and public officials?

c. Does the applicant describe how the state strategic plan will be utilized?

6. Evaluation (10 Points)

Does the applicant provide a detailed description of the methods to be used to evaluate the Planning Phase?

7. Measures of Effectiveness (Not Scored)

Does the applicant provide objective/quantifiable measures regarding the intended outcomes that will demonstrate the accomplishment of the various identified objectives of the cooperative agreement?

8. Proposed Budget and Justification (Not Scored)

Does the applicant provide a detailed budget with complete line-item justification of all proposed costs consistent with the stated activities in the program announcement? Details must include a breakdown in the categories of personnel (with time allocations for each), staff travel, communications and postage, equipment, supplies, and any other costs? Does the budget projection include a narrative justification for all requested costs? Any sources of additional funding beyond the amount stipulated in this cooperative agreement should be indicated, including donated time or services. For each expense category, the budget should indicate CDC share, the applicant share and any other support. These funds should not be used to supplant existing efforts.

V.2. Review and Selection Process

Applications will be reviewed for completeness by the Procurement and Grants Office (PGO) staff, and for responsiveness by NCIPC. Incomplete applications and applications that are non-responsive to the eligibility criteria will not advance through the review process. Applicants will be notified that their application did not meet submission requirements.

An objective review panel will evaluate your application according to the criteria listed in the “V.1. Criteria” section above.

V.3. Anticipated Announcement Award Date

September 30, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-10 Smoke-Free Workplace Requirements.

• AR-11 Healthy People 2010.

• AR-12 Lobbying Restrictions.

• AR-13 Prohibition on Use of CDC Funds for Certain Gun Control Activities.

• AR-15 Proof of Non-Profit Status.

Additional information on these requirements can be found on the CDC web site at the following Internet address: http://www.cdc.gov/od/pgo/funding/ARs.htm.

Projects that involve the collection of information from ten or more individuals and funded by cooperative agreement will be subject to review by the Office of Management and Budget (OMB) under the Paperwork Reduction Act.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report, no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Neil Rainford, Project Officer, 4770 Buford Hwy., NE., MS-K60, Atlanta, GA 30341-3724, Telephone: 770-488-1122, E-mail: NRainford@cdc.gov.

For financial, grants management, or budget assistance, contact: Nancy Pillar, Grants Management Specialist, CDC Procurement and Grants Office, 2920 Brandywine Road, Suite 3000, Atlanta, GA 30341, Telephone: 770-488-2721, E-mail: NPillar@cdc.gov.

Dated: May 10, 2004.
William P. Nichols,
Acting Director, Procurement and Grants Office, Centers for Disease Control and Prevention.

[FR Doc. 04-10946 Filed 5-13-04; 8:45 am]

BILLING CODE 4163-18-P